DEPARTMENT OF EDUCATION

List of Correspondence From January 1, 2015 Through March 31, 2015 and April 1, 2015 Through June 30, 2015

AGENCY: Office of Special Education and Rehabilitative Services, Department of Education.

ACTION: Notice.

SUMMARY: The Secretary is publishing the following list of correspondence from the U.S. Department of Education (Department) received by individuals during the first and second quarters of 2015. The correspondence describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from January 1, 2015 through March 31, 2015 and April 1, 2015 through June 30, 2015. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part B—Assistance for Education of all Children With Disabilities

Section 612—State Eligibility

Topic Addressed: State Educational Agency General Supervisory Authority

• Dear Colleague Letter dated April 15, 2015, providing guidance on best practices for the appropriate use of IDEA's dispute resolution procedures and the importance of avoiding conflicting decisions when a public agency files a due process complaint on the same issues that are the subject of a parent's pending State complaint.

• Letter dated May 19, 2015, to Mississippi Department of Education, Special Assistant Attorney General Heather S. Deaton, regarding the State's duty to implement corrective actions to address the findings in a State complaint decision, and the types of corrective actions that can be ordered when a parent subsequently files a due process complaint involving some of the same issues.

Section 615—Procedural Safeguards

Topic Addressed: Impartial Due Process Hearings

• Letter dated January 7, 2015, to Minnesota attorney Margaret O'Sullivan Kane, regarding two issues related to due process hearings in Minnesota.

Topic Addressed: Independent Educational Evalutions

• Letter dated February 23, 2015, to individual Debbie Baus, regarding a parent's right to request an independent educational evaluation at public expense in an area that was not previously assessed by the public agency, and the public agency's responsibilities after the parent makes the request.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: January 4, 2017.
Sue Swenson,
Deputy Assistant Secretary for Special Education and Rehabilitative Services, delegated the authority to perform the functions and duties of the Assistant Secretary for Special Education and Rehabilitative Services.

[FR Doc. 2017-00172 Filed 1-6-17; 8:45 am]

BILLING CODE 4000-01-P